DEPARTMENT OF TRANSPORTATION

Office of the Secretary

[Docket OST-2011-0022]

On-Line Complaint Form for Service-Related Issues in Air Transportation

AGENCY: Office of the Secretary, Department of Transportation.

ACTION: Notice and request for comments.

SUMMARY: In accordance with the Paperwork Reduction Act of 1995 (44 U.S.C. Chapter 35, as amended) this notice announces the Department of Transportation's intention to renew an OMB control number for an on-line complaint form by which a consumer can electronically submit a service-related complaint against an air carrier.

DATES: Comments on this notice must be received by April 7, 2015.

ADDRESSES: To ensure that you do not duplicate your docket submissions, please submit them by only one of the following means:

• Federal eRulemaking Portal: Go to http://www.regulations.gov and follow the online instructions for submitting comments;

• Mail: Docket Management Facility, U.S. Department of Transportation, 1200 New Jersey Ave. SE., West Building Ground Floor Room W-12/140, Washington, DC 20590-0001; or

• Hand delivery: West Building Ground Floor, Room W-12/140, 1200 New Jersey Ave. SE., between 9 a.m. and 5 p.m., Monday through Friday, except Federal holidays. The telephone number is 202-366-9329.

FOR FURTHER INFORMATION CONTACT: Blane Workie or Daeleen Chesley, Office of the Secretary, Office of the Assistant General Counsel for Aviation Enforcement and Proceedings (C-70), Department of Transportation, 1200 New Jersey Ave. SE., Washington, DC 20590, 202 366-9342 (voice) or at Blane.Workie@dot.gov or Daeleen.Chesley@dot.gov.

SUPPLEMENTARY INFORMATION: Title: Renewal of Aviation Consumer Protection Division Webpage On-Line Complaint Form.

OMB Control Number: 2105-0568.

Type of Request: Request to renew an OMB control number for a current information collection form.

Abstract: The Department of Transportation's (Department) Office of the Assistant General Counsel for Aviation Enforcement and Proceedings (Enforcement Office) has broad authority under 49 U.S.C., Subtitle VII, to investigate and enforce consumer protection and civil rights laws and regulations related to air transportation. The Enforcement Office, including its Aviation Consumer Protection Division (ACPD), monitors compliance with and investigates violations of the Department of Transportation's aviation economic, consumer protection, and civil rights requirements.

Among other things, the office is responsible for receiving and investigating service-related consumer complaints filed against airlines and other travel-related companies. Once received, the complaints are reviewed by the office to determine the extent to which these entities are in compliance with federal aviation consumer protection and civil rights laws and what, if any, action should be taken.

The key reason for this request is to enable consumers to continue to file their complaints (or comments) to the Department using an on-line form, whether via their personal computer or on their mobile device. If the information collection form is not available, the Department may receive fewer complaints from consumers. The lack of consumer-driven information could inhibit the office's ability to effectively investigate both individual complaints against airlines and other air travel-related companies. It would also impact the Department's Enforcement Office's ability to become aware of patterns and practices that may develop in violation of our rules. The information collection continues to further the objectives of 49 U.S.C. 41712, 40101, 40127, 41702, and 41705 to protect consumers from unfair or deceptive practices, to protect the civil rights of air travelers, and to ensure safe and adequate service in air transportation.

Filing a complaint using a web-based form is voluntary and minimizes the burden on respondents. Based on CY14 information, 14,479 of the 17,308 cases filed with the ACPD were filed electronically (83.7%). Consumers can also choose to file a complaint with the Department using regular mail or by phone message. The type of information requested on the form includes complainant's name, address, phone number (including area code), email address, and name of the airline or company about which she/he is complaining, as well as the flight date and flight itinerary (where applicable) of complainant's trip. A consumer may also use the form to give a description of a specific air-travel related problem or to ask for air-travel related information from the ACPD. The Department has limited its informational request to that necessary to meet its program and administrative monitoring and enforcement activities.

Respondents: Consumers that Choose to File an On-Line Complaint with the Aviation Consumer Protection Division.

Estimated Number of Respondents: 14,479 (based on CY 2014 data).

Estimated Total Burden on Respondents: 3,619.75 hours, 217,185 minutes (based on 15 minutes per respondent to fill out the on-line form).

The information collection is available for inspection in regulations.gov, as noted in the ADDRESSES section of his document.

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Issued in Washington, DC, on January 30, 2015.
Blane Workie,
Assistant General Counsel for Aviation Enforcement and Proceedings.

[FR Doc. 2015-02405 Filed 2-5-15; 8:45 am]

BILLING CODE 4910-9X-P